DEPARTMENT OF COMMERCE

Technology Administration

The United States-Russia Innovation Council on High Technologies (ICHT)

AGENCY: Technology Administration, U.S. Department of Commerce.

ACTION: Notice.

SUMMARY: The Technology Administration invites nominations of individuals representing high technology business in the United States for appointment to five vacancies on the U.S.-Russia Innovation Council on High Technologies. The U.S. Department of Commerce (D.O.C.) and the Ministry of Education and Science (M.E.S.) of the Russian Federation (hereinafter referred to as “the Participants”), formed the Innovation Council on High Technologies (hereinafter referred to as “the Council”) in accordance with Article 3 of the Memorandum of Understanding between the D.O.C. and the M.E.S. on Cooperation in Technology and Innovation, signed at Washington, DC on April 19, 2004. The Technology Administration will consider all nominations received in response to this notice.

DATES: Nominations must be received at the address below by no later than January 31, 2005.

ADDRESSES: Please submit nominations to Ken Ferguson, Chief, International Technology Programs, Office of Technology Policy, Technology Administration, U.S. Department of Commerce, Room 4817, 14th and Constitution Avenues, NW., Washington, DC 20230. Nominations may also be submitted by fax or e-mail to Ken Ferguson, Chief, International Technology Programs at 202-501-6849 or Ken.Ferguson@Technology.Gov if followed up with a hard copy sent by mail or courier.

FOR FURTHER INFORMATION CONTACT: Ken Ferguson, Chief, International Technology Programs, telephone: 202-482-0150; fax: 202-501-6849, e-mail: Ken.Ferguson@Technology.Gov.

General Principles of the Council

Innovation activities, commercialization of the results of scientific and technical activities, entrepreneurship, and a pro-competitive legal and policy environment are important stimulators of economic growth and job creation. The U.S. and Russia have a mutual interest in strengthening and expanding cooperation through the establishment of an ongoing dialogue and the creation of cooperative programs in order to develop sustained commercial partnerships between U.S. and Russian developers of high technologies and entrepreneurs.

The Council is a forum for the free exchange of information, ideas, and problems in the interests of:

—Studying existing problems and making recommendations on developing joint entrepreneurship in the field of innovation activities and commercialization of the results of scientific and technical activities;

—Preparing analytical reviews and developing recommendations on creating favorable conditions for cooperation in the field of innovation and high technologies, which promote the economic development of the U.S. and Russia;

—Providing guidance to private sector representatives in taking advantage of opportunities for cooperation in the field of innovation activities and commercialization of the results of scientific and technical activities;

—Establishing a dialogue on creating pro-competitive technology policies that stimulate scientific research and development based on sustainable U.S. and Russian private sector partnerships;

— Enabling U.S. and Russian technology joint ventures, in order to afford greater access to, and a greater ability to serve, global markets.

Aim of Council Activities

The aim of the Council is to promote development of cooperation between the U.S. and Russia in the field of innovation, commercialization, and high technologies, and to promote interaction and cooperation between representatives of government agencies and the business and scientific communities of the United States and of Russia for the purpose of commercializing the results of scientific and technical activities, including those developed through government funding or sponsorship.

Objectives of the Council

The objectives of the Council are to:

—Identify promising areas of innovation cooperation for commercialization of the results of scientific and technical activities,

—Stimulate joint research and development that has significant commercial potential, and support joint innovation projects to bring the results of such research and development to the market for science-intensive products and services,

—Create and maintain a pro-competitive environment that allows business and partnerships in innovation to develop successfully,

—Facilitate the establishment of U.S.-Russian business partnerships to produce new jointly developed science-intensive goods and services and to promote them on world markets through market-based commercialization programs,

-Develop recommendations for harmonizing legislation in the field of innovation activities and technology standards of the U.S. and Russia, and

—Promote in the global marketplace the commercial technology partnerships that have been established.

Council Structure and Work

The Council will be headed by two Co-Chairs, one from each Participant. The U.S. Co-Chair will be appointed by the Department of Commerce. The Russian Co-Chair will be appointed by the Ministry of Education and Science. The Council will be composed of not more than twenty representatives. The Participants will each select ten representatives from government agencies, and business and scientific communities of the U.S. and Russia, respectively.

The Council will establish working groups on the main areas of its activities. These working groups will be responsible for:

—Reviewing possibilities for harmonizing legislation in the area of innovation activities and studying the results of intellectual activities;

—Providing guidance on the management, funding, and effectiveness of innovation programs and projects, including joint programs for market-based commercialization of technologies;

—Promoting the formation of U.S. and Russian innovation and technology business partnerships; and

—Stimulating technology incubation by identifying scientific innovations with commercial applications.

Meetings of the Council

Council meetings are to be held at least once a year, alternately in the U.S. and Russia, on issues proposed for consideration and coordinated between the Council Co-Chairs. The first meeting of the Council will be on or before May 16, 2005, in Russia at a location to be determined. Travel and living expenses associated with attending these meetings are the responsibility of the Council members.

Length of Service

A U.S. member's length of service on the Council is discretionary with the U.S. Department of Commerce. Individuals chosen for membership will serve a term that is consistent with the needs and objectives of the Council although the term's average duration is expected to last around two years. Upon the completion of a U.S. member's term, the U.S. Department of Commerce may either repeat this recruitment and selection process or extend the member's term, based on the member's expertise and participation on the Council.

Membership Criteria and Requirements

The U.S. business members of the Council are expected to be eminent leaders in the private sector, representative of industry, who have experience in science and technology development, technology diffusion, and technology collaboration in the Russian Federation. They shall be U.S. citizens. They should be familiar with the business climate and the status of technology and economic development in the Russian Federation and with Russian industry. Members of the Council will serve without compensation.

Conflict of Interest

Nominees will be evaluated for their ability to contribute to the goals and objectives of the Council. Nominees will be vetted in accordance with processes established by the U.S. Department of Commerce in February 1997, as soon as possible following tentative selection. The vetting system has three components: (1) An internal review for possible appearance of conflict problems; (2) an external review for possible appearance of problems; and (3) a recusal/ethics agreement review.

Dated: December 21, 2004.
Phillip J. Bond,
Under Secretary of Commerce for Technology.

[FR Doc. 04-28395 Filed 12-29-04; 8:45 am]

BILLING CODE 3510-GN-P